ENVIRONMENTAL PROTECTION AGENCY

[EPA-HQ-OPPT-2020-0262; FRL-10008-21]

Agency Information Collection Activities; Proposed Renewal of an Existing Collection (EPA ICR No. 1246.14 and OMB Control No. 2070-0072); Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “Reporting and Recordkeeping for Asbestos Abatement Worker Protection” and identified by EPA ICR No. 1246.14 and OMB Control No. 2070-0072, represents the renewal of an existing ICR that is scheduled to expire on December 31, 2020. Before submitting the ICR to OMB for review and approval, EPA is soliciting comments on specific aspects of the proposed information collection that is summarized in this document. The ICR and accompanying material are available in the docket for public review and comment.

DATES: Comments must be received on or before July 20, 2020.

ADDRESSES: Submit your comments, referencing Docket ID No. EPA-HQ-OPPT-2020-0262, using the Federal eRulemaking Portal at http://www.regulations.gov. Follow the online instructions for submitting comments. Do not submit electronically any information you consider to be Confidential Business Information (CBI) or other information whose disclosure is restricted by statute. Please note that due to the public health emergency the EPA Docket Center (EPA/DC) and Reading Room was closed to public visitors on March 31, 2020. There is also a temporary suspension of mail delivery to EPA and no hand deliveries are currently accepted. Our EPA/DC staff will continue to provide customer service via email, phone, and webform. For further information on EPA/DC services, docket contact information and the current status of the EPA/DC and Reading Room, please visit https://www.epa.gov/dockets.

FOR FURTHER INFORMATION CONTACT: Sarah Cox, National Program Chemicals Division, Office of Pollution Prevention and Toxics, Environmental Protection Agency, 1200 Pennsylvania Ave. NW, Washington, DC 20460-0001; telephone number: (202) 564-3961; email address: cox.sarah@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Reporting and Recordkeeping for Asbestos Abatement Worker Protection.

EPA ICR number: EPA ICR No. 1246.14.

OMB control number: OMB Control No. 2070-0072.

ICR status: This ICR is currently approved through December 31, 2020. An Agency may not conduct or sponsor, and a person is not required to respond to, a collection of information, unless it displays a currently valid OMB control number. The OMB control numbers for EPA regulations in title 40 of the Code of Federal Regulations (CFR) are displayed either by publication in the Federal Register or by other appropriate means, such as on the related collection instrument or form, if applicable. The display of OMB control numbers for certain EPA regulations is consolidated in 40 CFR part 9.

Abstract: This ICR covers reporting and recordkeeping requirements associated with EPA's Asbestos Worker Protection Rule (WPR) (40 CFR part 763, subpart G), which establishes workplace standards for the protection of state and local government employees who work with asbestos and who are not covered by a state plan approved by the Occupational Safety and Health Administration (OSHA). Currently, state and local government employees in 24 states, the District of Columbia (DC), and three additional U.S. territories (DC and the territories are counted as one “state equivalent”) who perform construction work, including building construction, renovation, demolition, and maintenance activities, and employees who perform brake and clutch repair work, are covered by EPA's WPR. The WPR requires state and local government employers to use engineering controls and appropriate work practices to control the release of asbestos fibers. Covered employers must also monitor employee exposure to asbestos and provide employees with personal protective equipment, training, and medical surveillance to reduce the risk of asbestos exposure. Exposure monitoring records must be maintained for 30 years, medical surveillance records for the duration of employment of the affected employees plus 30 years, and training records for the duration of employment plus one year. Employers must also establish written respiratory protection programs and maintain procedures and records of respirator fit tests for one year.

The ICR, which is available in the docket along with other related materials, provides a detailed explanation of the collection activities and the burden estimate that is only briefly summarized here:

Respondents/affected entities: States and local government employers in the 24 states, DC, and the U.S. territories of American Samoa, Guam, and the Northern Mariana Islands that have employees engaged in asbestos-related construction, custodial, and brake and clutch repair activities without OSHA-approved state plans.

Estimated total number of potential respondents: 25,312.

Frequency of response: On occasion.

Estimated total annual burden: 372,969 hours. Burden is defined at 5 CFR 1320.3(b).

Estimated total annual burden costs: $16,894,178, includes no annualized capital investment or maintenance and operational costs.

III. Are there changes in the estimates from the last approval?

There was no change from the burden hours from the last approval. Estimated annual burden hour costs showed an increase of $1,00,000 due to increasing wage rates.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: May 8, 2020.
Alexandra Dapolito Dunn,
Assistant Administrator, Office of Chemical Safety and Pollution Prevention.

[FR Doc. 2020-10898 Filed 5-19-20; 8:45 am]

BILLING CODE 6560-50-P